NUCLEAR REGULATORY COMMISSION

[NRC-2019-0157]

Applicability of Existing Regulatory Guides to the Design, Construction, and Operation of an Independent Spent Fuel Storage Installation

AGENCY: Nuclear Regulatory Commission.

ACTION: Regulatory guide; withdrawal.

SUMMARY: The U.S. Nuclear Regulatory Commission (NRC) is withdrawing Regulatory Guide (RG) 3.53, “Applicability of Existing Regulatory Guides to the Design, Construction, and Operation of an Independent Spent Fuel Storage Installation.” This document is being withdrawn because the information included in the RG has been superseded by newer guidance and is therefore no longer needed.

DATES: The withdrawal of RG 3.53 takes effect on September 27, 2019.

ADDRESSES: Please refer to Docket ID NRC-2019-0157 when contacting the NRC about the availability of information regarding this document. You may obtain publicly-available information related to this document, using the following methods:

• Federal rulemaking website: Go to https://www.regulations.gov/ and search for Docket ID NRC-2019-0157. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Document collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The basis for the withdrawal of this regulatory guide is found in ADAMS under Accession No. ML19177A369.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Haile Lindsay, Office of Nuclear Material Safety and Safeguards; telephone: 301-415-0616; email: Haile.Lindsay@nrc.gov, or Harriet Karagiannis, Office of Nuclear Regulatory Research; telephone: 301-415-2493; email: Harriet.Karagiannis@nrc.gov. Both are staff of the U.S. Nuclear Regulatory Commission, Washington, DC 20555-0001.

SUPPLEMENTARY INFORMATION: The NRC is withdrawing RG 3.53 because it has been superseded and is no longer needed. RG 3.53 was published in July 1982 to describe the applicability of existing regulatory guides that would aid in the design, construction, and operation of an independent spent fuel storage installation (ISFSI). At that time, there were no precedents for applications for ISFSIs, there was not a consolidated set of guidance, and information technology did not exist to provide guidance electronically for ISFSIs. The staff issued RG 3.53 to expedite the staff's reviews of ISFSI applications, which were anticipated under the new requirements in title 10 of the Code of Federal Regulations (10 CFR) part 72, “Licensing Requirements for the Independent Storage of Spent Nuclear Fuel, High Level Radioactive Waste, and Reactor-Related Greater than Class C Waste.”

Since 1982, many of the guidance documents and regulatory positions listed in the RG have been withdrawn or superseded by more current guidance. Examples of new or revised staff guidance for ISFSIs include RG 3.48, “Standard Format and Content for the Safety Analysis Report for an Independent Spent Fuel Storage Installation or Monitored Retrievable Storage Installation (Dry Storage),” RG 3.50, “Standard Format and Content for a Specific License Application for An Independent Spent Fuel Storage Installation or Monitored Retrievable Storage Facility,” RG 3.60, “Design of an Independent Spent Fuel Storage Installation (Dry Storage),” and RG 3.62, “Standard Format and Content for the Safety Analysis Report for Onsite Storage of Spent Fuel Storage Casks.” These guidance documents incorporate the lessons learned during the licensing process and from operational experiences with ISFSIs. The current information technology available today makes the numerous RGs in the areas of design, construction, and operation of an ISFSI readily available electronically on the NRC's public website and it is easy for applicants to navigate and identify these guides.

Dated at Rockville, Maryland, this 23rd day of September, 2019.
For the Nuclear Regulatory Commission.
Thomas H. Boyce,
Chief, Regulatory Guidance and Generic Issues Branch, Division of Engineering, Office of Nuclear Regulatory Research.

[FR Doc. 2019-20972 Filed 9-26-19; 8:45 am]

BILLING CODE 7590-01-P